DEPARTMENT OF STATE

[Public Notice 4832]

Culturally Significant Objects Imported for Exhibition Determinations: Eternal Presence: “Handprints and Footprints in Buddhist Art”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, and Delegation of Authority No. 257 of April 15, 2003 [68 FR 19875], I hereby determine that the objects to be included in the exhibition External Presence: Handprints and Footprints in Buddhist Art” import from abroad for temporary exhibition within the United States, are of cultural significance. I also determine that the exhibition or display of the exhibit objects at the Katonah Museum of Art, Katonah, NY from on or about October 17, 2004 to on or about January 9, 2005, and part at the Honolulu Academy of Arts, Honolulu, HI from on or about January 26, 2005 to on or about May 29, 2005, and part at the Rubin Museum of Art, New York, NY from on or about June 14, 2005 to on or about September 4, 2005, and at possible additional venues yet to be determined, is in the national interest. Public Notice of these Determinations is ordered to be published in the Federal Register.

FOR FURTHER INFORMATION CONTACT: For further information, including a list of the exhibit objects, contact Carol B. Epstein, Attorney-Adviser, Office of the Legal Adviser, Department of State, (telephone: 202/619-6981). The address is Department of State, SA-44, 301 4th Street, SW., Room 700, Washington, DC 20547-0001.

Dated: September 14, 2004.
C. Miller Crouch,
Principal Deputy Assistant Secretary for Educational and Cultural Affairs, Department of State.

[FR Doc. 04-21078 Filed 9-17-04; 8:45 am]

BILLING CODE 4710-08-M